DEPARTMENT OF AGRICULTURE

Forest Service

Biscuit Fire Recovery Project, Rogue River and Siskiyou National Forests, Curry and Josephine Counties, Oregon

AGENCY: Forest Service, USDA.

ACTION: Notice of intent to prepare an environmental impact statement.

SUMMARY: The Forest Service, USDA, will prepare an environmental impact statement (EIS) on proposed activities in areas burned in the summer of 2002 by the Biscuit Fire. The Biscuit Fire affected almost 500,000 acres burning in the steep canyons of the Klamath/Siskiyou Mountains. It destroyed four homes, burned millions of trees, and altered habitat for various plant, wildlife, and fish species, including Threatened, Endangered, and Sensitive species. The fire damaged roads, trails, recreation signs and other structures. The implementation of this proposal is scheduled for fiscal years 2004 through 2009. The proposed action would be in compliance with the 1989 Siskiyou National Forest Land and Resource Management Plan, as amended by the Northwest Forest Plan, which provides the overall guidance for management of this area. The Rogue River and Siskiyou National Forests invites written comments and suggestions on the scope of the analysis. The agency will give notice of the full environmental analysis and decision-making process so interested and affected people may be able to participate and contribute in the final decision.

DATES: Comments concerning the scope of the analysis must be received by April 18, 2003.

ADDRESSES: Send E-Mail comments to R6_biscuit@fs.fed.us or written comments to Rogue River and Siskiyou National Forests, PO Box 520, Medford Oregon, 97501, Attn: Biscuit Fire Recovery Project.

FOR FURTHER INFORMATION CONTACT: Questions about the proposed action and EIS can be directed to: Tom Link, Biscuit Fire Recovery Project Leader, Rogue River and Siskiyou National Forests, phone: (541) 471-6500, E-Mail to: R6_biscuit@fs.fed.us.

SUPPLEMENTARY INFORMATION:

Purpose and Need for Action

There is a need to recover merchantable timber before it's value is lost to deterioration.

There is a need to restore vegetation that has been killed or altered by the Biscuit Fire. Approximately 225,000 acres have lost a significant conifer tree component, including almost 80,000 acres of Northern Spotted Owl habitat. Revegetation is needed to accelerate restoration of conditions that existed prior to fire exclusion. The objective is to restore lost habitat and provide for future timber production.

There is a need to protect the remaining late successional habitat, used by Threatened or Endangered (T&E) species, from further loss from fire and insects. The objective is to reduce the risk of future catastrophic fire that can destroy this habitat. There may also be a need to reduce the risk of insect infestation that can skill remaining healthy trees.

There is a need to protect forest users, adjacent private property values, and communities. The objective is to reduce the risk of catastrophic fire and insect infestations from developing on National Forest System lands and moving onto adjacent lands.

This project will also include a number of learning opportunities that can be integrated within the proposed action. Some post fire management actions are controversial and there is uncertainity about how well some activities will achieve objectives.

Proposed Action. The following proposed actions are designed to provide commercial wood products, restore and protect late successional forest and meadow habitat, restore and maintain water quality, and reforest conifer stands. Actions are also designed to reduce risk to communities and private lands, and learn more about the recovery of post fire environments and the effects of post fire activities (including salvage logging).

The salvage of commercial wood products from Matrix lands is planned on approximately 7,000 acres with an estimated potential recovery of 90 mmbf. These areas will be consistent with the standards and guidelines of the Siskiyou Land and Resource Management Plan (LRMP) as amended by the Northwest Forest Plan.

The protection of late successional habitat and communities is proposed by reducing fuels on about 16,000 acres (many of these acres are within Late Successional Reserves). Treatments could include cutting, yarding, piling, or burning existing hazardous fuels adjacent to remaining late successional habitat patches (about 4,000 acres). A portion of these treatments will result in shaded fuelbreaks (approximately 12,000 acres) as described by Agee et al. (1999; The Use of Shaded Fuel Breaks in Landscape Fire Management; Forest Ecology and Management; 127 (2000) 55-66).

Meadow habitat treatments are proposed on about 1,000 acres. This may include removing dead trees to better maintain the meadows over time. Some historic meadows that were overgrown by trees, had those trees killed by the fire. The removal of excessive amounts of dead wood can help maintain meadow grass and forb species over time.

Reforestation of conifer stands is proposed on approximately 30,000 acres. These areas are expected to need varying levels of site preparation. Site preparation will include reducing competing vegetation by manual methods or reducing dead fuels by cutting, moving, or burning.

This proposal will analyze the probability of bark beetle outbreaks and, if indicated, consider the salvage of bug-infested green trees.

Improvement or closing of roads may be proposed to reduce the risk to water quality. Treatments could include improved drainage, erosion control designs, or decommissioning of roads that are sediment risks and not needed for management purposes.

There is an opportunity to design recovery actions to learn about the effectiveness of various methods for recovering post fire environments. These proposals can include differing reforestation techniques, fuels treatments, or salvage harvesting methods, as well as, comparing natural recovery processes to more active methods. These proposals may be incorporated into project alternatives.

The proposed action considers treatments (not including salvage logging) of 2,000 acres in Inventoried Roadless Areas (IRA's). The goal of treatments is to reduce ladder fuels and concentrations of hazardous fuels around key areas of remaining habitat for T&E species and to improve fuelbreaks adjacent to communities. These treatments could reduce the likelihood of uncharacteristic wildfire effects (Federal Register/Vol. 66, No. 9, January 12, 2001). This activity will be consistent with the Interim Directive 1920-2001-1, which limits activities in IRA's. Implementation of this directive is under the authority of the Forest Supervisor.

A portion of the proposed action may analyze and recommend activities on federal lands under the administration of the Bureau of Land Management in the Silver Creek and Deer Creek drainages. These areas were burned within the Biscuit Fire.

Scoping Process. Public participation will be sought at several points during the analysis, including listing of this project in the Spring 2003 and subsequent issues of the Siskiyou National Forest's quarterly publication “Schedule of Proposed Activities,” and letters to agencies, organizations, tribes, and individuals who have previously indicated their interest in such activities. Information about the project can be found at http://www.biscuitfire.com.

The scoping process will include: identifying potential issues, identifying major issues to be analyzed in depth, eliminating non-significant issues or those previously covered by a relevant environmental analysis, considering additional alternatives which will be derived from issues recognized during scoping activities, and identifying potential environmental effects of this proposed action and alternatives (i.e. direct, indirect, and cumulative effects and connected actions).

Comments. Some of the preliminary issues that have been identified include the effects of the proposed action on: landscape pattern and habitat diversity; fire hazard associated with the change in fuels; water quality; threatened, endangered or sensitive species; salvage logging; reforestation and activities in Inventoried Roadless Areas.

Public comments about this proposal are requested in order to assist in properly scoping issues, determining how to best manage the resources, and fully analyzing environmental effects. Comments received to this notice, including names and addresses of those who comment, will be considered part of the public record on this proposed action and will be available for public inspection. Comments submitted anonymously will be accepted and considered; however, those who submit anonymous comments will not have standing to appeal the subsequent decision under 36 CFR Parts 215 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied; the agency will return the submission and notify the requester that the comments may be resubmitted with or without name and address within a specified number of days.

A draft EIS will be filed with the Environmental Protection Agency (EPA) and available for public review by July 2003. The EPA will publish a Notice of Availability (NOA) of the draft EIS in the Federal Register. The comment period on the draft EIS will be 45 days from the date the NOA appears in the Federal Register. The final EIS is expected in November 2003.

The Forest Service believes, at this early stage, it is important to given reviewers notice of several court rulings related to public participation in the environmental review process. First, reviewers of draft environmental impact statements must structure their participation in the environmental review of the proposal so that is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

The final EIS is scheduled to be available November 2003. In the final EIS, the Forest Service is required to respond to substantive comments received during the comment period for the draft EIS. The Forest Service is the lead agency and the Responsible Official is the Forest Supervisor, Rogue River and Siskiyou National Forests. The responsible official will decide whether or not, and where, to savage harvest timber, construct fuel-breaks, plant trees and other vegetation, prevent or mitigate pest outbreaks, repair facilities, stabilize soils, and mitigate safety hazards. The responsible official will also decide how to mitigate impacts of these actions and will determine when and how much monitoring of effects will take place.

The Responsible Official will document the Biscuit Fire Recovery Project decision and reasons for the decision in the Record of Decision. That decision will be subject to Forest Service Appeal Regulations (36 CFR Part 215).

Dated: March 12, 2003.
Scott D. Conroy,
Forest Supervisor.

[FR Doc. 03-6503 Filed 3-18-03; 8:45 am]

BILLING CODE 3410-11-M